ENVIRONMENTAL PROTECTION AGENCY

[EPA-HQ-OPP-2015-0774; FRL-9952-23]

Registration Review Proposed Decisions for Sulfonylurea Herbicides; Reopening of Comment Period

AGENCY: Environmental Protection Agency (EPA).

ACTION: Notice; reopening of comment period.

SUMMARY: EPA issued a notice in the Federal Register of July 14, 2016, concerning the opening of a public comment period for a proposed interim decision for 22 sulfonylurea herbicides. This document reopens the comment period until November 14, 2016. This comment period is being reopened in response to a number of requests from various stakeholders citing difficulty commenting due to the length, quantity, and complexity of the Risk Assessments.

DATES: Comments, identified by docket identification (ID) numbers: EPA-HQ-OPP-2011-0663, EPA-HQ-OPP-2010-0478, EPA-HQ-OPP-2012-0878, EPA-HQ-OPP-2011-0994, EPA-HQ-OPP-2012-0387, EPA-HQ-OPP-2011-0745, EPA-HQ-OPP-2015-0625, EPA-HQ-OPP-2012-0717, EPA-HQ-OPP-2012-0833, EPA-HQ-OPP-2011-0375, EPA-HQ-OPP-2012-0372, EPA-HQ-OPP-2011-0438, EPA-HQ-OPP-2011-0844, EPA-HQ-OPP-2011-1010, EPA-HQ-OPP-2012-0178, EPA-HQ-OPP-2012-0433, EPA-HQ-OPP-2011-0434, EPA-HQ-OPP-2011-0171, EPA-HQ-OPP-2012-0115, EPA-HQ-OPP-2010-0626, EPA-HQ-OPP-2013-0409, and EPA-HQ-OPP-2012-0605, must be received on or before November 14, 2016.

Table—Chemicals With Reopened Comment Periods
Registration review case name and No. | Docket ID No. | Chemical review manager and contact information
Bensulfuron-methyl, 7216 | EPA-HQ-OPP-2011-663 | Moana Appleyard, appleyard.moana@epa.gov, (703) 308-8175.
Chlorimuron-ethyl, 7403 | EPA-HQ-OPP-2010-478 | Leigh Rimmer, rimmer.leigh@epa.gov, (703) 347-0553.
Chlorsulfuron, 0631 | EPA-HQ-OPP-2012-878 | Miguel Zavala, zavala.miguel@epa.gov, (703) 347-0504.
Flazasulfuron, 7271 | EPA-HQ-OPP-2011-994 | Ricardo Jones, jones.ricardo@epa.gov, (703) 347-0493.
Foramsulfuron, 7252 | EPA-HQ-OPP-2012-387 | Leigh Rimmer, rimmer.leigh@epa.gov, (703) 347-0553.
Halosulfuron-methyl, 7233 | EPA-HQ-OPP-2011-745 | Brittany Pruitt, pruitt.brittany@epa.gov, (703) 347-0289.
Imazosulfuron, 7281 | EPA-HQ-OPP-2015-0625 | Caitlin Newcamp, newcamp.caitlin@epa.gov, (703) 347-0325.
Iodosulfuron-methyl-sodium, 7253 | EPA-HQ-OPP-2012-717 | Leigh Rimmer, rimmer.leigh@epa.gov, (703) 347-0553.
Mesosulfuron-methyl, 7277 | EPA-HQ-OPP-2012-833 | Maria Piansay, piansay.maria@epa.gov, (303) 308-8063.
Metsulfuron-methyl, 7205 | EPA-HQ-OPP-2011-375 | Brian Kettl, kettl.brian@epa.gov, (703) 347-0535.
Nicosulfuron, 7227 | EPA-HQ-OPP-2012-372 | Nathan Sell, sell.nathan@epa.gov, (703) 347-8020.
Orthosulfamuron, 7270 | EPA-HQ-OPP-2011-438 | Khue Nguyen, nguyen.khue@epa.gov, (703) 347-0248.
Primisulfuron-methyl, 7220 | EPA-HQ-OPP-2011-844 | Christina Scheltema, scheltema.christina@epa.gov, (703) 308-2201.
Prosulfuron, 7235 | EPA-HQ-OPP-2011-010 | Wilhelmena Livingston, livingston.wilhelmena@epa.gov, (703) 308-8025.
Rimsulfuron, 7218 | EPA-HQ-OPP-2012-178 | Leigh Rimmer, rimmer.leigh@epa.gov, (703) 347-0553.
Sulfometuron-methyl, 3136 | EPA-HQ-OPP-2012-433 | Caitlin Newcamp, newcamp.caitlin@epa.gov, (703) 347-0325.
Sulfosulfuron, 7247 | EPA-HQ-OPP-2011-434 | Nicole Zinn, zinn.nicole@epa.gov, (703) 308-7076.
Thifensulfuron-methyl, 7206 | EPA-HQ-OPP-2011-171 | Steven Snyderman, snyderman.steven@epa.gov, (703) 564-0370.
Triasulfuron, 7221 | EPA-HQ-OPP-2012-115 | Margaret Hathaway, hathaway.margaret@epa.gov, (703) 305-5076.
Tribenuron-methyl, 7217 | EPA-HQ-OPP-2010-626 | Linsey Walsh, walsh.linsey@epa.gov, (703) 347-8030.
Trifloxysulfuron-Sodium, 7208 | EPA-HQ-OPP-2013-409 | Nicole Zinn, zinn.nicole@epa.gov, (703) 308-7076.
Triflusulfuron-methyl, 7236 | EPA-HQ-OPP-2012-605 | Sue Bartow, bartow.susan@epa.gov, (703) 603-0065.

ADDRESSES: Follow the detailed instructions provided under ADDRESSES in the Federal Register document of July 14, 2016 (81 FR 45477) (FRL-9948-29).

FOR FURTHER INFORMATION CONTACT: Margaret Hathaway, Pesticide Re-Evaluation Division (7508P), Office of Pesticide Programs, Environmental Protection Agency, 1200 Pennsylvania Ave. NW., Washington, DC 20460-0001; telephone number: (703) 305-5076; email address: hathaway.margaret@epa.gov.

SUPPLEMENTARY INFORMATION: This document reopens the public comment period established in the Federal Register document of July 14, 2016. In that document, EPA opened a public comment period for a proposed interim decision for 22 sulfonylurea herbicides: Bensulfuron-methyl, chlorimuron-ethyl, chlorsulfuron, flazasulfuron, foramsulfuron, halosulfuron-methyl, imazosulfuron, iodosulfuron-methyl-sodium, mesosulfuron-methyl, metsulfuron-methyl, nicosulfuron, orthosulfamuron, primisulfuron-methyl, prosulfuron, rimsulfuron, sulfometuron-methyl, sulfosulfuron, thifensulfuron-methyl, triasulfuron, tribenuron-methyl, trifloxysulfuron-sodium, and triflusulfuron-methyl. EPA is hereby reopening the comment period for 45 days.

To submit comments, or access the docket, please follow the detailed instructions provided under ADDRESSES in the Federal Register document of July 14, 2016. If you have questions, consult the person listed under FOR FURTHER INFORMATION CONTACT.

Authority: 7 U.S.C. 136 et seq.

Dated: September 14, 2016.
Yu-Ting Guilaran,
Director, Pesticide Re-Evaluation Division, Office of Pesticide Programs.

[FR Doc. 2016-23437 Filed 9-27-16; 8:45 am]

BILLING CODE 6560-50-P